ENVIRONMENTAL PROTECTION AGENCY

[EPA-HQ-OW-2009-0819; FRL-8974-8]

Agency Information Collection Activities; Proposed Collection; Comment Request; Proposed Information Collection Request for the Steam Electric Power Generating Effluent Guidelines; EPA ICR No. 2368.01, OMB Control No. 2040-NEW

AGENCY: Environmental Protection Agency (EPA).

ACTION: Notice.

SUMMARY: In compliance with the Paperwork Reduction Act (PRA) (44 U.S.C. 3501 et seq.), this document announces that EPA is planning to submit a request for a new Information Collection Request (ICR) to the Office of Management and Budget (OMB). Before submitting the ICR to OMB for review and approval, EPA is soliciting comments on specific aspects of the proposed information collection as described below.

DATES: Comments must be submitted on or before December 28, 2009.

ADDRESSES: Submit your comments identified by Docket ID No. EPA-HQ-OW-2009-0819, by one of the following methods:

• http://www.regulations.gov: Follow the on-line instructions for submitting comments.

• E-mail: OW-Docket@epa.gov, Attention Docket ID No. EPA-HQ-OW-2009-0819

• Mail: Water Docket, Environmental Protection Agency, Mailcode: 4203M, 1200 Pennsylvania Ave., NW., Washington, DC 20460, Attention Docket ID No. EPA-HQ-OW-2009-0819. Please include a total of 3 copies.

• Hand Delivery: Water Docket, EPA Docket Center, EPA West, Room 3334, 1301 Constitution Ave., NW., Washington, DC, Attention Docket ID No. EPA-HQ-OW-2009-0819. Such deliveries are only accepted during the Docket's normal hours of operation and special arrangements should be made.

Instructions: Direct your comments to Docket ID No. EPA-HQ-OW-2009-0819. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Ms. Jezebele Alicea-Virella, Engineering and Analysis Division (4303T), Environmental Protection Agency, 1200 Pennsylvania Ave., NW., Washington, DC 20460; telephone number: 202-566-1755; e-mail address: Alicea.Jezebele@epa.gov.

SUPPLEMENTARY INFORMATION:

How Can I Access the Docket and/or Submit Comments?

EPA has established a public docket for this ICR under Docket ID No. EPA-HQ-OW-2009-0819, which is available for online viewing at http://www.regulations.gov, or in person viewing at the Water Docket in the EPA Docket Center EPA/DC, EPA West, Room 3334, 1301 Constitution Ave., NW., Washington, DC. The EPA/DC Public Reading Room is open from 8:30 a.m. to 4:30 p.m., Monday through Friday, excluding legal holidays. The telephone number for the Reading Room is 202-566-1744, and the telephone number for the Water Docket is (202) 566-2426.

Use http://www.regulations.gov to obtain a copy of the draft collection of information, submit or view public comments, access the index listing of the contents of the docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Affected entities: Entities potentially affected by this action are approximately 1,200 steam electric power plants that generate electricity using nuclear fuel or fossil fuels such as coal, oil and natural gas.

Title: Proposed Information Collection Request for the Steam Electric Power Generating Effluent Guidelines.

ICR numbers: EPA ICR No. 2368.01, OMB Control No. 2040-NEW.

ICR status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The Clean Water Act (CWA) directs EPA to develop regulations, called effluent guidelines, to limit the amount of pollutants that are discharged to surface waters or to sewage treatment plants. The effluent guidelines for the steam electric power generating point source category apply to steam electric generating units at establishments that are primarily engaged in the generation of electricity for distribution and sale, resulting primarily from a process using nuclear or fossil-type fuels, such as coal, oil and natural gas. There are about 1,200 nuclear- and fossil-fueled steam electric power plants nationwide.

EPA first identified the industry during its 2005 annual effluent guidelines review when publicly available data indicated that this industry ranked high in discharges of toxic and nonconventional pollutants, relative to other industry sectors. Because of these findings, EPA initiated a more detailed study of the industry and collected data through site visits, wastewater sampling, a limited data request, and secondary data.

As part of the detailed study, EPA reviewed available information on environmental effects attributed to intentional permitted discharges to surface waters and other releases of the pollutants present in coal combustion residues. Studies have shown that the pollutants present in discharges from coal-fired power plants can affect aquatic organisms and wildlife, resulting in lasting environmental impacts on local habitats and ecosystems. Peer-reviewed literature has documented the impacts resulting from intentional and accidental surface water discharges of wastewater from coal-fired power plants, as well as environmental impacts from leachate from waste management units (i.e., surface impoundments and landfills) entering the ground water system.

EPA's review of wastewater discharges from power plants, and the treatment technologies available to reduce pollutant discharges, has indicated the need to update the current national effluent guidelines regulations. The current regulations, which were last updated in 1982, do not adequately address the pollutants being discharged and have not kept pace with changes that have occurred in the electric power industry over the last three decades. The process to develop and propose new discharge standards will require several years and the first steps to begin this process include an industry questionnaire.

EPA is conducting this ICR to support the rulemaking process for revising the steam electric power generating effluent guidelines. The ICR will aid in the collection of information from a wide range of steam electric power generating industry operations to characterize waste streams, understand the processes that generate the wastes, gather environmental data, and assess the availability and affordability of treatment technologies. These data will be used to perform detailed technical and economic analyses that will support EPA's rulemaking. EPA will seek OMB approval under the Paperwork Reduction Act (PRA).

EPA has identified approximately 1,200 fossil- and nuclear-fueled steam electric power plants that are potentially within scope of the data collection objectives of the ICR. To reduce burden on the industry, EPA intends to distribute the questionnaire to a statistically-sampled subset of these facilities. EPA estimates that this questionnaire will involve 760 respondents. The questionnaire consists of multiple sections which have been tailored to address specific processes, specific data needs, or types of power plants. Part A of the questionnaire will be sent to all questionnaire recipients; the remaining sections will be sent to discrete subpopulations of questionnaire recipients. No plant will be required to complete every section of the questionnaire.

The questionnaire will collect general plant information and selected technical information about the plant processes and the electric generating units. The information that will be collected includes economic data and technical information about flue gas desulfurization (FGD) wastewater, ash handling, process equipment cleaning operations, wastewater treatment, surface impoundment and landfill operations, and nuclear operations. The questionnaire will also require certain power plants to collect and analyze samples of leachate from surface impoundments and landfills containing coal combustion residues.

EPA intends to submit this information collection request to the Office of Management and Budget (OMB) for approval to distribute the questionnaire under the authority of section 308 of the CWA, 33 U.S.C. 1318. All questionnaire recipients will be required to complete and return the questionnaire to EPA.

Burden Statement: The annual public reporting and recordkeeping burden for this collection of information is estimated to average 205 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 760.

Frequency of response: One occasion.

Estimated total average number of hours for each respondent: 205.

Estimated total annual burden hours: 156,091.

Estimated total annual costs: $8.17 million. This includes an estimated burden cost of $6.45 million for labor and $1.72 million for operations and maintenance.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and a 30 day opportunity to submit comments to OMB. If you have any questions about this ICR or the approval process, please contact the technical person listed under FOR FURTHER INFORMATION CONTACT.

Dated: October 23, 2009.
Ephraim S. King,
Director, Office of Science and Technology.

[FR Doc. E9-25988 Filed 10-28-09; 8:45 am]

BILLING CODE 6560-50-P